DEPARTMENT OF ENERGY

Federal Energy Regulatory Commission

[Project No. 9282-040]

Pine Valley Hydroelectric Power Company, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent License for Minor Project.

b. Project No.: 9282-040.

c. Date Filed: September 29, 2025.

d. Applicant: Pine Valley Hydroelectric Power Company, LLC (Pine Valley Hydro).

e. Name of Project: Pine Valley Hydroelectric Project (project).

f. Location: On the Souhegan River in Hillsborough County, New Hampshire.

g. Filed Pursuant to: Federal Power Act, 16 U.S.C. 791(a)-825(r).

h. Applicant Contact: Tony Zarella, Chief Operating Officer, Relevate Power, LLC; 230 Park Ave., Suite 447; New York, NY 11017; telephone at (315) 247-0253; email at tz@relevatepower.com.

i. FERC Contact: Michael Watts, Project Coordinator, New England Branch, Division of Hydropower Licensing; telephone at (202) 502-6123; email at michael.watts@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on November 28, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Pine Valley Hydroelectric Project (9282-040).

m. The application is not ready for environmental analysis at this time.

n. Project Description: The Pine Valley Hydroelectric Project includes a 200-foot-long, 23-foot-high stone-masonry gravity dam with a 128-foot-long spillway. The dam is equipped with two waste gates and topped with 4-foot-high flashboards with a crest elevation of 323.6 feet National Geodetic Vertical Datum of 1929 (NGVD 29) at the top of the flashboards. The dam creates an impoundment that has a surface area of 7 acres at 323.6 feet NGVD 29.

From the impoundment, water flows into an intake structure located a short distance upstream of the dam on the eastern shoreline of the impoundment. The intake includes trashracks with 1.625-inch clear bar spacing and a gatehouse with an 8-foot-wide hydraulically operated headgate. From the intake, water flows through an 8-foot-diameter, approximately 0.5-mile-long penstock, directly to a 525-kilowatt horizontal Francis turbine-generator unit located on the lower level of a former mill building. Water is discharged from the turbine-generator unit to a 155-foot-long tailrace. The project creates an approximately 3,258-foot-long bypassed reach.

The project includes a downstream fish passage facility adjacent to the intake structure that consists of a surface inlet weir, a bypass inlet box, and a 24-inch diameter bypass pipe that discharges into the bypassed reach. The downstream fish passage facility operates annually from April 1 to June 1.

Electricity generated by the turbine-generator unit is transmitted to the electric grid via a 200-foot-long, 4.16-kilovolt transmission line. The minimum and maximum hydraulic capacities of the turbine-generator unit are 24 and 240 cubic feet per second (cfs), respectively. The average annual energy production of the project from 2019 through 2024, was 1,458 megawatt-hours.

The current license requires the project to operate in a run-of-river mode such that project outflow approximates inflow to the impoundment. Pine Valley Hydro maintains the normal maximum surface elevation of the impoundment at 323.6 feet NGVD 29. The current license also requires Pine Valley Hydro to release a minimum flow of 24 cfs or inflow, whichever is less, from the project to the bypassed reach. The minimum flow is released either through a sluice gate adjacent to the spillway during project operation, over the spillway when not operating, or through the downstream fish passage facility from April 1 to June 30.

Pine Valley Hydro proposes to: (1) continue operating the project in a run-of-river mode; (2) increase the minimum flow from 24 cfs or inflow, whichever is less, to 50 cfs or inflow, whichever is less; (3) install a flow gage in the bypassed reach to monitor streamflow and project discharge; (4) continue operating the downstream fish passage facility from April 1 to June 1; (5) consult with resource agencies on the scope and schedule of any future eel passage protection measures that may be necessary; and (6) develop an operations compliance monitoring plan.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-9282). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information November 2025

Issue Acceptance Letter and Notice March 2026

Issue Scoping Notice March 2026

Scoping Comments due April 2026

Issue Ready for Environmental Analysis Notice June 2026

r. Final amendments to the application must be filed with the Commission no later than 30 days from the issuance date of the notice of ready for environmental analysis.

Dated: October 14, 2025.
Debbie-Anne A. Reese,
Secretary.

[FR Doc. 2025-20702 Filed 11-21-25; 8:45 am]

BILLING CODE 6717-01-P